DEPARTMENT OF HEALTH AND HUMAN SERVICES

Administration for Children and Families

Proposed Information Collection Activity; Sponsor Review Procedures for Unaccompanied Alien Children (OMB #0970-0278); Correction

AGENCY: Office of Refugee Resettlement, Administration for Children and Families, Department of Health and Human Services.

ACTION: Notice; withdrawal.

SUMMARY: The Office of Refugee Resettlement (ORR) published a document requesting public comment on proposed changes to its Family Reunification Application (also referred to as Sponsor Verification Application) and Sponsor Care Agreement. ORR is no longer pursuing changes to these forms and, therefore, withdraws its request for public comment.

FOR FURTHER INFORMATION CONTACT: Toby Biswas, Esq., 202-401-9246; UACPolicy@acf.hhs.gov.

SUPPLEMENTARY INFORMATION: The ORR published the document in the Federal Register on January 5, 2021, at 86 FR 308.

Mary B. Jones,
ACF/OPRE Certifying Officer.

[FR Doc. 2021-04030 Filed 2-23-21; 4:15 pm]

BILLING CODE 4184-45-P